DEPARTMENT OF THE INTERIOR

National Park Service

General Management Plan/Final Environmental Impact Statement, Valley Forge National Historical Park, Pennsylvania

AGENCY: National Park Service, Department of the Interior.

ACTION: Notice of availability of the Final Environmental Impact Statement for the General Management Plan, Valley Forge National Historical Park.

SUMMARY: Pursuant to the National Environmental Policy Act of 1969, 42 U.S.C. 4332(2)(C), the National Park Service (NPS) announces the availability of an Final Environmental Impact Statement for the General Management Plan (GMP/EIS) for Valley Forge National Historical Park, Pennsylvania.

The Final GMP/EIS is comprised of the NPS' responses to public comments, errata detailing editorial changes to the Draft GMP/EIS, and copies of agency and substantive comment letters. The Draft GMP/EIS evaluated alternatives to guide the development and future management of the park over the next 20 years. Alternative A (No Action) provides a baseline evaluation of existing resource conditions, visitor use, facilities, and management at the park. The Action Alternatives (B and C) would enhance the preservation of the park's cultural and natural resources, while providing new opportunities for visitors. Alternative B would provide a range of new options for visitors to tailor visits and experiences to best meet their own needs and interest. Experiences would focus on exploration and self-discovery of the full cultural and natural history of Valley Forge. Alternative C, the agency's preferred alternative, would provide visitors the opportunity to decide what kind of experience they want, depending on learning style, interest, and time. The park would provide a core message and experience for all visitors that are primarily immersive and focus on the encampment and the American Revolution. A self-discovery approach would illustrate additional areas of the park, as well as historical and natural resources themes and topics.

The Draft GMP/EIS was available for public and agency review from November 3, 2006 through April 10, 2007. Copies of the document were sent to individuals, agencies, organizations, and local libraries. The document was also made available for review at the park and on the NPS Planning, Environment, and Public Comment Web site (http://parkplanning.nps.gov). Public meetings were held on February 21 and 22, 2007. Eight presentations of the plan were made to civic and interest groups and local governments.

DATES: The National Park Service will execute a Record of Decision (ROD) no sooner than 30 days following publication by the Environmental Protection Agency of the Notice of Availability of the Final Environmental Impact Statement.

ADDRESSES: Information will be available for public review and comment online at http://parkplanning.nps.gov, at the Valley Forge NHP Welcome Center, 1400 North Outer Line Drive, King of Prussia, Pennsylvania, 610-783-1099 and at the following locations: Lower Providence Community Library, 50 Parklane Drive, Eagleville, PA 19403-1171. Tredyffrin Public Library, 582 Upper Gulph Rd., Strafford-Wayne, PA 19087-2052. Phoenixville Public Library, 183 Second Avenue, Phoenixville, PA 19460. Montgomery County-Norristown Public Library, 1001 Powell Street, Norristown, PA 19401. Upper Merion Township Library, 175 West Valley Forge Road, King of Prussia, PA 19406.

FOR FURTHER INFORMATION CONTACT: Deirdre Gibson, Valley Forge NHP, 1400 North Outer Line Drive, King of Prussia, Pennsylvania 19406, Deirdre_gibson@nps.gov.

Dated: August 1, 2007.
John A. Latschar,
Acting Regional Director, Northeast Region, National Park Service.

[FR Doc. E7-16993 Filed 8-27-07; 8:45 am]

BILLING CODE 4310-DJ-P